ENVIRONMENTAL PROTECTION AGENCY

[FRL-7639-3]

Lees Former Impoundment Superfund Site; Notice of Proposed Settlement

AGENCY: Environmental Protection Agency.

ACTION: Notice of Proposed Settlement.

SUMMARY: Under Section 122(h) (1) of the Comprehensive Environmental Response Compensation and Liability Act, the Environmental Protection Agency has entered into a Settlement Agreement at the Lees Former Impoundment Superfund Site located in Bunnell, Flagler County, Florida, with Mr. George R. Lees, Laura D. Lees, and Lees Development Company. EPA will consider public comments on the Agreement until April 23, 2004. EPA may withdraw from or modify the Agreement should such comments disclose facts or considerations which indicate the Agreement is inappropriate, improper, or inadequate. Copies of the Agreement are available from: Ms. Paula V. Batchelor, US Environmental Protection Agency, Region 4, Superfund Enforcement and Information Management Branch, Waste Management Division, 61 Forsyth St., SW., Atlanta, Georgia 30303, (404) 562-8887, e-mail: batchelor.paula@epa.gov.

Written or e-mail comments may be submitted to Paula V. Batchelor at the above address within 30 days of the date of publication.

Dated: March 5, 2004.
Rosalind H. Brown,
Chief, Superfund Enforcement and Information, Management Branch, Waste Management Division.

[FR Doc. 04-6569 Filed 3-23-04; 8:45 am]

BILLING CODE 6560-50-P